DEPARTMENT OF TRANSPORTATION

Federal Aviation Administration

14 CFR Part 39

[Docket No. 99-NM-331-AD; Amendment 39-11769; AD 2000-11-21]

RIN 2120-AA64

Airworthiness Directives; Airbus Model A319, A320, and A321 Series Airplanes

AGENCY: Federal Aviation Administration, DOT.

ACTION: Final rule.

SUMMARY: This amendment adopts a new airworthiness directive (AD), applicable to certain Airbus Model A319, A320, and A321 series airplanes, that requires a one-time general visual inspection to determine the part number and serial number of the spoiler servocontrol, and corrective action, if necessary. This amendment is prompted by issuance of mandatory continuing airworthiness information by a foreign civil airworthiness authority. The actions specified by this AD are intended to prevent failure of the spoiler servocontrol piston rod, which could result in reduced controllability of the airplane.

DATES: Effective July 18, 2000.

The incorporation by reference of certain publications listed in the regulations is approved by the Director of the Federal Register as of July 18, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A319, A320, and A321 series airplanes was published in the Federal Register on December 22, 1999 (64 FR 71696). That action proposed to require a one-time general visual inspection to determine the part number and serial number of the spoiler servocontrol, and corrective action, if necessary.

Comments

Interested persons have been afforded an opportunity to participate in the making of this amendment. Due consideration has been given to the comments received.

The Air Transport Association (ATA) of America, on behalf of two of its members, states that both members support the intent of the proposed AD. One member is already accomplishing the relevant service bulletin. The other member is carrying out the one-time inspection of the affected aircraft to ensure the correct spoiler servocontrols are installed on their aircraft.

Request to Revise the Compliance Time for the Corrective Actions

One commenter requests that the proposed AD be revised to allow more flexibility in accomplishing the corrective actions specified in the proposal. The commenter states that there will be times when replacement spoiler servos are unavailable due to the large number of spoiler servocontrol units that are affected in the Airbus fleet. With this in mind, the commenter suggests revising paragraph (a) of the proposed AD to read as follows:

“At the time specified in paragraph (a)(1) or (a)(2), accomplish the inspection and corrective action per SB A320-27-1127 or A320-27-1126 as applicable.”

The FAA does not concur. Discussions with the manufacturer have not identified a supply problem with the spoiler servocontrols. Additionally, sufficient time has elapsed since the issuance of the service bulletins and notice of proposed rulemaking (NPRM) for operators to make the necessary planning and logistical supply arrangements in advance in order to comply with this amendment. Therefore, no change has been made to the final rule.

Request to Revise the Compliance Time for the Inspection

One commenter requests that the proposed AD be revised to require the one-time general visual inspection to determine the part number and serial number of the spoiler servocontrol to be accomplished within 18 months for Airbus Model A319 series airplanes. The commenter states that, the proposed AD specifies a fourteen times differential in the required compliance threshold (i.e., 2 months versus 28 months) between Airbus Model A320 and A319 series airplanes. The commenter questions this differential because Model A320 series airplanes have been in service longer with an accumulated average of 17,306 total flight hours than the Model A319 series airplanes, which have an accumulated average of approximately 4,014 total flight hours. Furthermore, the commenter states that there are approximately 2.3 times more Model A320 series airplanes in service as Model A319 and A321 series airplanes.

The FAA does not concur. Data provided by the manufacturer indicates that an autoland failure of a servocontrol on a Model A319 or A321 series airplane would result in a greater maximum transient deviation from the runway centerline and maximum transient bank angle without triggering the excessive deviation warning. Considering this factor, the FAA has determined that the compliance times specified in paragraphs (a)(1) and (a)(2) of the proposed AD represent the maximum time in which the affected airplanes could continue to operate without compromising safety. Therefore, no change has been made to the final rule.

Explanation of Change to the Proposal

The FAA notes that it is necessary to clarify that the general visual inspection required by paragraphs (a) and (b) of this AD may be accomplished in accordance with Airbus Service Bulletin A320-27-1126, dated April 26, 1999, or Revision 01, dated October 6, 1999. This clarification provides credit for those operators that may have previously accomplished the required action in accordance with that service bulletin.

Conclusion

After careful review of the available data, including the comments noted above, the FAA has determined that air safety and the public interest require the adoption of the rule with the changes described previously. The FAA has determined that these changes will neither increase the economic burden on any operator nor increase the scope of the AD.

Cost Impact

The FAA estimates that 210 airplanes of U.S. registry will be affected by this AD, that it will take approximately 2 work hours per airplane to accomplish the inspection, at an average labor rate of $60 per work hour. Based on these figures, the cost impact of this AD on U.S. operators is estimated to be $25,200, or $120 per airplane.

Should an operator be required to accomplish the modification, it will take approximately 4 work hours per airplane, at an average labor rate of $60 per work hour. The cost of required parts would be free of charge. Based on these figures, the cost impact of the modification is estimated to be $240 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-11-21 Airbus Industrie: Amendment 39-11769. Docket 99-NM-331-AD.

Applicability: The following models, certificated in any category, excluding those on which Airbus Service Bulletin A320-27-1126, dated April 26, 1999 (for Model A319 and 321 series airplanes); or A320-27-1127, dated April 26, 1999, or Revision 01, dated October 6, 1999 (for Model A320 series airplanes); has been accomplished:

• Model A319 series airplanes, serial numbers (S/N) 0546 through 0972 inclusive;

• Model A320 series airplanes, S/N 0002 through 0842 inclusive, 0846 through 0859 inclusive, 0865, 0866, and 0872 through 0960 inclusive; and

• Model A321 series airplanes, S/N 0364 through 0974 inclusive.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the servocontrol piston rod, which could result in reduced controllability of the airplane, accomplish the following:

Inspection

(a) At the applicable time specified by paragraph (a)(1) or (a)(2) of this AD: Perform a general visual inspection to determine the part number and serial number for the spoiler servocontrols, in accordance with Airbus Service Bulletin A320-27-1126, April 26, 1999, or Revision 01, dated October 6, 1999 (for Model A319 and A321 series airplanes); or Airbus Service Bulletin A320-27-1127, dated April 26, 1999, or Revision 01, dated October 6, 1999 (for Model A320 series airplanes); as applicable. If the part number and serial number are identified in paragraph 2.B.(1)(b) of the Accomplishment Instructions of the applicable service bulletin, prior to further flight, perform applicable corrective actions (including removal, reidentification of the servocontrol, and replacement of the servocontrol with a modified part) as specified in the applicable service bulletin.

(1) For Model A319 and A321 series airplanes: Inspect within 2 months after the effective date of this AD.

(2) For Model A320 series airplanes: Inspect within 28 months after the effective date of this AD.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Spares

(b) As of the effective date of this AD, no person shall install on any airplane a spoiler servocontrol having part number 31077-050, 31077-060, or 31077-110; and S/N 0001 to 3499, except those serial numbers excluded in paragraph 2.B.(1)(b)1 of the Accomplishment Instructions in Airbus Service Bulletin A320-27-1126, dated April 26, 1999, or Revision 01, dated October 6, 1999; unless that servocontrol has been inspected, and corrective actions have been performed, in accordance with the requirements of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Airbus Service Bulletin

A320-27-1126, including Appendices 01 and 02, dated April 26, 1999; Airbus Service Bulletin A320-27-1126, Revision 01 including Appendices 01 and 02, dated October 6, 1999; Airbus Service Bulletin A320-27-1127, including Appendices 01 and 02, dated April 26, 1999; or Airbus Service Bulletin A320-27-1127, Revision 01 including Appendices 01 and 02, dated October 6, 1999; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 1999-362-139(B), dated September 8, 1999.

(f) This amendment becomes effective on July 18, 2000.

Issued in Renton, Washington, on June 1, 2000.
Donald L. Riggin,
Acting Manager, Transport Airplane Directorate, Aircraft Certification Service.

[FR Doc. 00-14311 Filed 6-12-00; 8:45 am]

BILLING CODE 4910-13-P